DEPARTMENT OF HOMELAND SECURITY

Federal Emergency Management Agency

[Docket ID FEMA-2014-0022]

Technical Mapping Advisory Council

AGENCY: Federal Emergency Management Agency, DHS.

ACTION: Committee Management; Notice of Federal Advisory Committee Meeting.

SUMMARY: The Federal Emergency Management Agency (FEMA) Technical Mapping Advisory Council (TMAC) will meet via conference call on October 26 and 27, 2016. The meeting will be open to the public.

DATES: The TMAC will meet via conference call on Wednesday, October 26, 2016 from 10:00 a.m. to 5:00 p.m. Eastern Daylight Time (EDT), and on Thursday, October 27, 2016 from 10:00 a.m. to 5:00 p.m. EDT. Please note that the meeting will close early if the TMAC has completed its business.

ADDRESSES: For information on how to access to the conference call, information on services for individuals with disabilities, or to request special assistance for the meeting, contact the person listed in FOR FURTHER INFORMATION CONTACT below as soon as possible. Members of the public who wish to dial in for the meeting must register in advance by sending an email to FEMA-TMAC@fema.dhs.gov (attention Kathleen Boyer) by 11 a.m. EDT on Friday, October 21, 2016.

To facilitate public participation, members of the public are invited to provide written comments on the issues to be considered by the TMAC, as listed in the SUPPLEMENTARY INFORMATION section below. The Agenda and other associated material will be available for review at www.fema.gov/TMAC by Wednesday, October 19, 2016. Written comments to be considered by the committee at the time of the meeting must be received by Friday, October 21, 2016, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include the docket number in the subject line of the message. Include name and contact detail in the body of the email.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided. Docket: For docket access to read background documents or comments received by the TMAC, go to http://www.regulations.gov and search for the Docket ID FEMA-2014-0022.

A public comment period will be held on October 26, 2016 and October 27, 2016. Speakers are requested to limit their comments to no more than two minutes. Each public comment period will not exceed 20 minutes. Please note that the public comment periods may end before the time indicated, following the last call for comments. Contact the individual listed below to register as a speaker by close of business on Friday, October 21, 2016.

FOR FURTHER INFORMATION CONTACT: Kathleen Boyer, Designated Federal Officer for the TMAC, FEMA, 500 C St. SW., Washington, DC 20024, telephone (202) 646-4023, and email kathleen.boyer@fema.dhs.gov. The TMAC Web site is: http://www.fema.gov/TMAC.

SUPPLEMENTARY INFORMATION: Notice of this meeting is given under the Federal Advisory Committee Act, 5 U.S.C. Appendix.

As required by the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an Annual Report to the FEMA Administrator that contains: (1) A description of the activities of the Council; (2) an evaluation of the status and performance of flood insurance rate maps and mapping activities to revise and update Flood Insurance Rate Maps; and (3) a summary of recommendations made by the Council to the FEMA Administrator.

Agenda: On October 26, 2016, the TMAC will introduce and welcome new TMAC members, and will discuss contextual report language to support the TMAC 2016 Annual Report recommendations discussed at the September 23-26, 2016 virtual public meeting. On October 27, 2016, the TMAC will continue to discuss contextual report language to support the TMAC 2016 Annual Report recommendations. A brief public comment period will take place prior to any votes and at least one comment period will occur on each day. A more detailed agenda will be posted by Wednesday, October 19, 2016, at http://www.fema.gov/TMAC.

Dated: September 12, 2016.
Roy E. Wright,
Deputy Associate Administrator, for Insurance and Mitigation, Federal Emergency Management Agency.

[FR Doc. 2016-24339 Filed 10-6-16; 8:45 am]

BILLING CODE 9110-12-P